DEPARTMENT OF TRANSPORTATION

Pipeline and Hazardous Materials Safety Administration

Hazardous Materials: Notice of Applications for Modifications to Special Permits

AGENCY: Pipeline and Hazardous Materials Safety Administration (PHMSA), Transportation (DOT).

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 21, 2020.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on September 1, 2020.
Donald P. Burger,
Chief, General Approvals and Permits Branch.

Special Permits Data
Application No. | Applicant | Regulation(s) affected | Nature of the special permits thereof
9998-M | Accumulators, Inc. | 173.302(a) | To modify the special permit to add three additional bladder designs. (modes 1, 2, 3, 4).
14636-M | Department Of Defense (Military Surface Deployment & Distribution Command) | 172.301(c), 180.209 | To modify the special permit to streamline the identification of tubes being requalified and to authorize additional OCONUS locations. (modes 1, 3, 4).
15691-M | Department Of Defense (Military Surface Deployment & Distribution Command) | 172.301(c), 180.209 | To streamline the listing of authorized cylinders, update the locations where the permitted cylinders are authorized and remove the one time extension and restate the five year requalification requirements. (modes 1, 2, 3, 4).
16154-M | Patriot Fireworks USA, LLC | 172.101(i), 173.62, 173.62 | To modify the special permit to authorize cargo webbing (netting) or metal fencing or grating as authorized methods to secure fireworks against significant lateral movement and preventing the release of any fireworks into the interior of the freight container. (mode 1).
21018-M | Packaging And Crating Technologies, LLC | 172.200, 172.300, 172.400, 172.600, 172.700(a), 173.185(b), 173.185(c), 173.185(f) | To modify the special permit to authorize batteries up to 1200Wh to be transported in Thermo Shield pleatwrap. (modes 1, 2, 3).

[FR Doc. 2020-19641 Filed 9-3-20; 8:45 am]

BILLING CODE 4909-60-P